DEPARTMENT OF COMMERCE

Foreign-Trade Zones Board

[B-33-2016]

Foreign-Trade Zone (FTZ) 281—Miami, Florida, Notification of Proposed Production Activity, Alpha Marketing Network, Inc. d/b/a AMN Distributors, (Kitting—Wine Gift Sets), Miami, Florida

Miami-Dade County, grantee of FTZ 281, submitted a notification of proposed production activity to the FTZ Board on behalf of Alpha Marketing Network, Inc. d/b/a AMN Distributors (AMN), located in Miami, Florida. The notification conforming to the requirements of the regulations of the FTZ Board (15 CFR 400.22) was received on May 3, 2016.

The AMN facility is located within Site 41 of FTZ 281. The facility is used for the kitting of Irish cream wine gift sets. Pursuant to 15 CFR 400.14(b), FTZ activity would be limited to the specific foreign-status materials and components and specific finished products described in the submitted notification (as described below) and subsequently authorized by the FTZ Board.

Production under FTZ procedures could exempt AMN from customs duty payments on foreign status materials used in export production. On its domestic sales, AMN would be able to choose the duty rate during customs entry procedures that applies to finished Irish cream wine gift sets (4.2¢/liter) for the inputs noted below. Customs duties also could possibly be deferred or reduced on foreign status production equipment.

The components sourced from abroad include: Irish cream gift boxes/paper/master; drinking glasses; and, Irish cream wine (duty rate ranges from free to 28.5%; 4.2¢/liter).

Public comment is invited from interested parties. Submissions shall be addressed to the FTZ Board's Executive Secretary at the address below. The closing period for their receipt is June 27, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: May 10, 2016.
Andrew McGilvray,
Executive Secretary.

[FR Doc. 2016-11547 Filed 5-16-16; 8:45 am]

BILLING CODE 3510-DS-P